SMALL BUSINESS ADMINISTRATION

13 CFR Part 121

RIN 3245-AG20

Acquisition Process: Task and Delivery Order Contracts, Bundling, Consolidation

AGENCY: U.S. Small Business Administration.

ACTION: Final rule; correction.

SUMMARY: The U.S. Small Business Administration (SBA) is correcting a final rule that appeared in the Federal Register on October 2, 2013. The rule, which described how supply procurements should be classified, mistakenly attempted to amend a regulation by removing words that did not exist in the particular paragraph. This notice corrects that rule document by removing the instruction.

DATES: Effective October 3, 2016.

FOR FURTHER INFORMATION CONTACT: Michael McLaughlin, Office of Policy, Planning & Liaison, U.S. Small Business Administration, 409 Third Street SW., Washington, DC 20416; 202-205-5353; michael.mclaughlin@sba.gov.

SUPPLEMENTARY INFORMATION: On June 28, 2013, SBA published a rule in the Federal Register at 78 FR 38811 that amended § 121.404(b) by removing “and the date of certification by SBA” and adding in its place “and, where applicable, the date the SBA program office requests a formal size determination in connection with a concern that otherwise appears eligible for program certification.” The final rule published on October 2, 2013, (78 FR 61113) intended to amend 13 CFR 121.404(b) by removing “date of certification by SBA” and adding in its place “date the Director of the Division of Program Certification and Eligibility or the Associate Administrator for Business Development requests a formal size determination in connection with a concern that is otherwise eligible for program certification.” However, the amendment could not be implemented because at that point the words to be removed did not exist in § 121.404(b). Therefore, SBA is removing that instruction from the final rule published on October 2, 2013.

In the FR Rule Doc. No. 2016-22064 in the issue of October 2, 2013, beginning on page 61113, make the following correction:

On page 61131, first column, remove amendatory instruction number 4c.

Dated: September 21, 2016.
A. John Shoraka,
Associate Administrator for Government Contracting and Business Development.

[FR Doc. 2016-23478 Filed 9-30-16; 8:45 am]

BILLING CODE 8025-01-P